DEPARTMENT OF AGRICULTURE

Food Safety and Inspection Service

[Docket No. FSIS-2015-0014]

Codex Alimentarius Commission: Meeting of the Codex Committee on Fresh Fruits and Vegetables; Correction

AGENCY: Office of the Under Secretary for Food Safety, USDA.

ACTION: Notice; correction.

SUMMARY: This document corrects a notice published in the Federal Register of June 17, 2015, announcing a public meeting and requesting comments on agenda items and draft United States (U.S.) positions that will be discussed at the 19th Session of the Codex Committee on Fresh Fruits and Vegetables (CCFFV) of the Codex Alimentarius Commission (Codex). This correction fixes a clerical error in the public meeting dates announced in the notice.

For Further Information About the 19th Session of CCFFV Contact: Dorian LaFond, Agricultural Marketing Service, Fruits and Vegetables Division, Stop 0235-Room 2086, United States Department of Agriculture, 1400 Independence Avenue SW., Washington, DC 20250. Phone: (202) 690-4944, Fax: (202) 720-0016, email: dorian.lafond@usda.gov.

For Further Information About the Public Meeting Contact: Kenneth Lowery, U.S. Codex Office, 1400 Independence Avenue, Room 4861, Washington, DC 20250. Phone: (202) 690-4042, Fax: (202) 720-3157, email: Kenneth.Lowery@fsis.usda.gov.

Correction

In the notice, Codex Alimentarius Commission: Meeting of the Codex Committee on Fresh Fruits and Vegetables, beginning on page 34606 in the issue of Wednesday, June 17, 2015, make the following corrections in the SUMMARY section, DATES section, and SUPPLEMENTARY INFORMATION section.

On page 34607, in the first column, in the SUMMARY Section and the DATES section, “August 6, 2015” is corrected to read “August 11, 2015”.

On page 34607, in the third column, in the SUPPLEMENTARY INFORMATION, Public Meeting section, “August 6, 2015” is corrected to read “August 11, 2015”.

USDA Nondiscrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW., Washington, DC 20250-9410.

Fax: (202) 690-7442.

Email: program.intake@usda.gov.

Persons with disabilities who require alternative means for communication (Braille, large print, audiotape, etc.) should contact USDA's TARGET Center at (202) 720-2600 (voice and TDD).

Additional Public Notification

Public awareness of all segments of rulemaking and policy development is important. Consequently, FSIS will announce it on-line through the FSIS Web page located at: http://www.fsis.usda.gov/federal-register.

FSIS also will make copies of this Federal Register publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password-protect their accounts.

Done at Washington, DC, on July 28, 2015.
Mary Frances Lowe,
U.S. Manager for Codex Alimentarius.

[FR Doc. 2015-18841 Filed 7-30-15; 8:45 am]

BILLING CODE 3410-DM-P